EXPORT-IMPORT BANK OF THE U.S.

[Public Notice 111]

Agency Information Collection Activities: Proposed Collection; Comment Request

AGENCY: Export Import Bank of the U.S.

ACTION: Notice and request for comments.

SUMMARY: The Export-Import Bank, as a part of its continuing effort to reduce paperwork and respondent burden, invites the general public and other Federal Agencies to comment on the proposed information collection, as required by the Paperwork Reduction Act of 1995. Our customers will be able to submit this form on paper or electronically. Legal certifications for the form have been updated.

DATES: Written comments should be received on or before June 29, 2009 to be assured of consideration.

ADDRESSES: Direct all comments and requests for additional information to Walter Kosciow, Export-Import Bank of the U.S., 811 Vermont Avenue, NW., Washington, DC 20571, (202) 565-3649, (800) 565-3946 Ext. 3649, or walter.kosciow@exim.gov.

SUPPLEMENTARY INFORMATION:

Title and Form Number: Application for Financial Institution Short-term Single-Buyer Insurance, EIB 92-41.

OMB Number: 3048-0019.

Type of Review: Regular.

Need and Use: The information requested enables the financial institution applicant to provide Ex-Im Bank with the information necessary to obtain legislatively required assurance of repayment and fulfills other statutory requirements.

Affected Public: The form affects entities involved in the export of U.S. goods and services.

Estimated Annual Respondents: 236.

Estimated Time per Respondent: 1 hour.

Estimated Annual Burden: 236 hours.

Frequency of Reporting or Use: As needed, each time a financial institution seeks short-term insurance for an export sale to a single buyer.

Solomon Bush,
Agency Clearance Officer.

[FR Doc. E9-9852 Filed 4-29-09; 8:45 am]

BILLING CODE 6690-01-P